DEPARTMENT OF LABOR

Employment and Training Administration

Request for Nominations for Membership on the Native American Employment and Training Council

AGENCY: Employment and Training Administration, Labor.

ACTION: Request for nominations.

SUMMARY: The Department of Labor (DOL) invites interested parties to submit nominations for individuals to serve on the Native American Employment and Training Council (NAETC) and announces the procedures for those nominations. When submitting nomination materials, please indicate the Region or Discipline for which the nominee would like to be considered. Information regarding the NAETC can be found at https://www.dol.gov/agencies/eta/dinap/council.

DATES: Nominations for individuals to serve on the NAETC must be submitted electronically; by August 30, 2021.

ADDRESSES: You may submit nominations and supporting materials described in this Federal Register Notice by the following method:

Electronically: Submit nominations, including attachments, by email using the following address: NAETC@dol.gov (use subject line “Nomination— Native American Employment and Training Council”). The Department will not accept nominations by mail, express delivery, hand delivery, messenger, courier service, or facsimile.

FOR FURTHER INFORMATION CONTACT: Athena Brown, Division of Indian and Native American Programs, (202) 693-3737 or email at brown.athena@dol.gov.

SUPPLEMENTARY INFORMATION:

I. Background and Authority

Section 166(i)(4) of the Workforce Innovation and Opportunity Act (WIOA), 29 U.S.C. 3221(i)(4), requires the Secretary of Labor (Secretary) to establish and maintain the NAETC. The statute requires the Secretary to formally consult at least twice annually with the NAETC on the operation and administration of the WIOA Section 166 Indian and Native American employment and training programs. In addition, the NAETC advises the Secretary on matters that promote the employment and training needs of Indians and Native Americans, as well as to enhance the quality of life in accordance with the Indian Self-Determination and Education Assistance Act. The NAETC also provides guidance to the Secretary on how to make DOL discretionary funding and other special initiatives more accessible to federally recognized tribes, Alaska Native entities, and Native Hawaiian organizations.

II. Structure

The Council will be composed of no less than 15 members, but no more than 20, appointed by the Secretary, who are representatives of Indian tribes, tribal organizations, Alaska Native entities, Indian-controlled organizations serving Indians, or Native Hawaiian organizations pursuant to WIOA Section 166(i)(4)(B). The membership of the Council will, to the extent practicable, represent all geographic areas of the United States with a substantial Indian, Alaska Native, or Native Hawaiian population, and will include representatives of tribal governments and of non-reservation Native American organizations that have expertise in the areas of workforce development, secondary and post-secondary education, health care, business and economic development, and job sectors growth.

Each NAETC member will be appointed for a two-year term. A vacancy occurring in the Council membership will be filled in the same manner as the original appointment. A member appointed to a vacancy on the Council will serve for the remainder of the term for which the predecessor of that member was appointed. Members of NAETC will serve on a voluntary and generally uncompensated basis, but will be reimbursed for travel expenses to attend NAETC meetings, including per diem in lieu of subsistence, as authorized by the Federal travel regulations. All NAETC members will serve at the pleasure of the Secretary. Members may be appointed, reappointed, or replaced, and their terms may be extended, changed, or terminated at the Secretary's discretion.

II. Nominations Process

The Department is seeking nominations from representatives of tribal governments and American Indian, Alaska Native, and Native Hawaiian organizations that have expertise in the areas of workforce development, secondary and post- secondary education, health care, human services, veteran services, business and economic development, and job sectors growth to join the Council and provide expertise on the WIOA Section 166, Indian and Native American Programs. The Charter requires that the Council, to the extent practicable, shall represent all geographic areas of the United States with a substantial Indian, Alaska Native, or Native Hawaiian population. Accordingly, the Department is seeking representatives from each of the six ETA regions (see ETA regions located at: https://www.doleta.gov/regions), including representatives for Hawaii, Alaska, and Oklahoma and “Other Disciplines.” In nominating representatives for “Other Disciplines,” prospective nominees may represent various areas of expertise, such as technical experts (e.g., registered apprenticeships), education (tribal colleges or universities), health care, human services, elected tribal leaders, business, or other sectors.

Appointments for the following 17 members will expire on October 23, 2021:

Mr. Darrell Waldron, Region I, Boston (includes CT, MA, ME, NH, NJ, NY, PR, RI, and VT); and Region II (includes DE, MD, PA, WV and VA);

Ms. Anne Richardson, Region II (includes DE, MD, PA, WV and VA);

Ms. Candace Lowry, Region III, Atlanta (includes AL, FL, GA, KY, MS, NC, SC, and TN);

Ms. Lora Ann Chaisson, and Dr. Tina Farrenkoph, Region IV, Dallas (includes AR, CO, LA, MT, ND, NM, OK, SD, TX, UT, and WY); and Erwin Pahmahmie, Jr., Region IV, Oklahoma

Ms. Christine Campbell and Dr. Joe Hobot, Region V, Chicago (includes IA, IL, IN, KS, MI, MN, MO, NE, OH, and WI);

Mr. Jacob Bernal, Ms. Patricia K. Hibbeler, Mr. Gary Rickard, and Mr. Joseph Quintana, Region VI, San Francisco (includes AK, AZ, CA, GU, HI, ID, NV, OR, and WA); and,

Mr. Michael Tucker, Region VI, Alaska Native representative;

Winona Whitman, Region VI, Hawaii representative; and

Kim Kaniatobe Carroll, Matthew Lamont, and Kay Seven, Other Disciplines.

All individuals listed above are eligible for nomination.

Grantee representatives from the six ETA regions (including those designated as Pub. L. 102-477 grantees) may submit nominations for individuals residing in their ETA region only, except that nominations for Other Disciplines may by grantees from any ETA region for individuals residing in any ETA region. In order to meet the FACA requirement of a fairly balanced membership and to ensure that the points of view of Alaska Natives and Native Hawaiians are represented on the Council, nominations for individuals representing Alaska Natives and Native Hawaiians will be accepted in addition to nominations for each region. In addition, a representative for the State of Oklahoma will be accepted due to the number of tribes and the concentration of American Indians in Oklahoma.

In submitting nominations, consideration should be given to the availability of the nominee to attend and actively participate in Council meetings (a minimum of two meetings annually), willingness to serve on Council workgroups, and provide feedback to the grantee community. Communication between the Council member and his or her constituency is essential to the partnership between the Department and the Indian and Native American communities.

Nominations must include:

• Nominee's Name, title, organization, address, email, and phone number;

• Nominator's name, organization, address, email, and phone number;

• Nomination category (e.g., ETA Region, Native Hawaiian representative, Alaska Native representative, Oklahoma representative, or representative for Other Disciplines). Those nominating a regional representative must reside in the same region as the nominee. If nominated for Other Disciplines, specify discipline;

• A biography and current resume of the nominee; and

• A cover letter that provides the reason(s) for nominating the individual or a self-nomination, and the particular expertise of the nominee in the areas of workforce development, secondary and post-secondary education, health care, human services, veteran services business and economic development and job sectors growth. In addition, the cover letter must state that the nomination is being made in response to this Federal Register Notice and that the nominee (if nominating someone other than oneself) has agreed to be nominated.

We have provided an optional form for convenience. Download at https://www.dol.gov/agencies/eta/dinap/council.

(Authority: Pursuant to the Workforce Innovation and Opportunity Act, 29 U.S.C. 3221(i)(4); Federal Advisory Committee Act, as amended, 5 U.S.C. App. 2)

Suzan G. LeVine,
Principal Deputy Assistant Secretary for Employment and Training Administration, Labor.

[FR Doc. 2021-16138 Filed 7-28-21; 8:45 am]

BILLING CODE 4510-FN-P